DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than February 25, 2013.

Interested persons are invited to submit written comments regarding the subject matter of the investigations to the Director, Office of Trade Adjustment Assistance, at the address shown below, not later than February 25, 2013.

The petitions filed in this case are available for inspection at the Office of the Director, Office of Trade Adjustment Assistance, Employment and Training Administration, U.S. Department of Labor, Room N-5428, 200 Constitution Avenue NW., Washington, DC 20210.

Signed at Washington, DC this 6th day of February 2013.
Elliott S. Kushner,
Certifying Officer, Office of Trade Adjustment Assistance.

Appendix
[TAA petitions instituted between 1/28/13 and 2/1/13]
TA-W | Subject firm (petitioners) | Location | Date of institution | Date of petition
82370 | Mega Life & Health Insurance Company (The) (Company) | N. Richland Hills, TX | 01/28/13 | 01/28/13
82371 | T-Mobile (Customer Fault Isolation Te) (Workers) | Bethlehem, PA | 01/28/13 | 01/24/13
82372 | Hostess Brands (State/One-Stop) | Wichita, KS | 01/28/13 | 01/28/13
82373 | Gerdau Ameristeel (State/One-Stop) | Saint Paul, MN | 01/28/13 | 01/25/13
82374 | Catholic Health Initiatives (State/One-Stop) | Lincoln, NE | 01/28/13 | 01/28/13
82375 | Apex Tool Group (Company) | Gastonia, NC | 01/29/13 | 01/25/13
82376 | Schneider Electric (Company) | Columbia, MO | 01/29/13 | 01/28/13
82377 | Allied-Baltic Rubber, Inc. dba Zhongding USA, Inc. (Company) | Strasburg, OH | 01/29/13 | 01/24/13
82378 | Joint Active Systems (Bonutti Technologies is Identified as Parent Company) (State/One-Stop) | Effingham, IL | 01/29/13 | 01/28/13
82379 | Abbott Laboratories—Diagnostic Division (Company) | Santa Clara, CA | 01/29/13 | 01/28/13
82380 | Red Rock Medical Billing, LLC (State/One-Stop) | Las Vegas, NV | 01/29/13 | 01/28/13
82381 | BorgWarner Morse Tec. (Union) | Cortland & Ithaca, NY | 01/29/13 | 01/23/13
82382 | Amdocs, Inc (State/One-Stop) | New Haven, CT | 01/29/13 | 01/21/13
82383 | Sysco Corporation (Workers) | Plympton, MA | 01/29/13 | 01/28/13
82384 | Schawk Inc. (Workers) | Atlanta, GA | 01/30/13 | 01/30/13
82385 | Closure System Int. (Workers) | Randolph, NY | 01/30/13 | 01/08/13
82386 | Mahle Engine Components US, LLC (Union) | McConnelsville, OH | 01/30/13 | 01/29/13
82387 | Hoover's, Inc. a subsidiary of Dun & Bradstreet (State/One-Stop) | Austin, TX | 01/30/13 | 01/29/13
82388 | Aleris Recycling Bens Run, LLC (Union) | Friendly, WV | 01/30/13 | 01/29/13
82389 | Elster AMCO Water Inc. (State/One-Stop) | Ocala, FL | 01/30/13 | 01/29/13
82390 | Plantronics, Inc (Workers) | Santa Cruz, CA | 01/30/13 | 01/29/13
82391 | Bacova Guild, Ltd. (Company) | Covington, VA | 01/31/13 | 01/30/13
82392 | ABB Inc. (Company) | Mount Pleasant, PA | 01/31/13 | 01/30/13
82393 | Royal Appliance Mfg. Co. (Company) | El Paso, TX | 01/31/13 | 01/29/13
82394 | YP Holdings LLC (Formerly AT&T Advertising Solutions) (Workers) | Nashville, TN | 01/31/13 | 01/30/13
82395 | A.E. Petsche Company (Company) | Arlington, TX | 01/31/13 | 01/29/13
82396 | Sealy Mattress Company, Portland, OR (Union) | Portland, OR | 01/31/13 | 01/29/13
82397 | Hostess Brands (Workers) | Erie, PA | 01/31/13 | 01/30/13
82398 | YP Holding LLC (Workers) | Tucker, GA | 01/31/13 | 01/30/13
82399 | Berwick Offray LLC (Workers) | Berwick, PA | 01/31/13 | 01/30/13
82400 | Invesco Management Group, Inc. (Workers) | Houston, TX | 01/31/13 | 01/30/13
82401 | YP Midwest Publishing LLC (Workers) | Southfield, MI | 02/01/13 | 01/31/13
82402 | YP Holdings LLC (Workers) | Brookfield, WI | 02/01/13 | 01/31/13
82403 | Elbeco Inc. dba City Shirt Company (Company) | Frackville, PA | 02/01/13 | 01/31/13
82404 | NGN Global Inc. (State/One-Stop) | Portland, ME | 02/01/13 | 01/31/13
82405 | Boise Paper Holdings, LLC (Company) | Boise, ID | 02/01/13 | 02/01/13
82406 | 360 Enterprises Inc. (State/One-Stop) | Phoenix, AZ | 02/01/13 | 01/18/13

[FR Doc. 2013-03540 Filed 2-14-13; 8:45 am]

BILLING CODE 4510-FN-P